DEPARTMENT OF THE INTERIOR

Bureau of Land Management

[LLNM954000 L14400000.BX0000 LXSSG0200000 17X]

Notice of Cancellation of Portions of Plats of Survey and Filing of Supplemental Plats and Amended Field Notes, New Mexico/Oklahoma

AGENCY: Bureau of Land Management, Interior.

ACTION: Notice of cancellation.

SUMMARY: Portions of the plats of survey described below have been cancelled and supplemental plats and amended field notes have been filed by the New Mexico State Office, Bureau of Land Management (BLM), Santa Fe, New Mexico.

FOR FURTHER INFORMATION CONTACT: For information about these cancellations, supplemental plats, and amended field notes, please contact Chris McDonald, Acting Chief Cadastral Surveyor for NM, OK, KS, and TX, at cpmcdona@blm.gov, or 505-954-2042, during normal business hours.

SUPPLEMENTARY INFORMATION:

Indian Meridian, Oklahoma (OK)

On May 16, 2006, a Notice entitled “Filing of Plats of Survey; Oklahoma” was published in the Federal Register (71 FR 28371), concerning the dependent resurvey and survey in Township 5 South, Range 14 West, of the Indian Meridian, officially filed June 22, 2006, for Groups 81 and 126 OK. A supplemental plat approved and filed on January 18, 2018, was prepared to correct clerical errors in the plats referenced in the May 16, 2006, Notice, clarifying that any references to the location of the Texas/Oklahoma border do not reflect the United States' position as to the present-day political boundary between the States of Texas and Oklahoma.

Indian Meridian, Oklahoma (OK)

On June 12, 2009, a Notice entitled “Filing of Plats of Survey; New Mexico, Oklahoma, Texas and Kansas” was published in the Federal Register (74 FR 28061), concerning the dependent resurvey and survey in Townships 5 and 6 South, Range 12 West, of the Indian Meridian, officially filed on July 13, 2009, for Group 85 OK.

Portions of the plats referenced in the June 12, 2009, Notice, specifically the gradient boundary, medial line, partition lines, and the extension of the rectangular survey system located south of the adjusted 1875 left (north) bank meanders of the Red River were cancelled effective November 16, 2017. A supplemental plat was prepared and the field note record was amended to reflect this cancellation. The supplemental plat was filed November 20, 2017.

Indian Meridian, Oklahoma (OK)

On February 25, 2010, a Notice entitled “Filing of Plats of Survey; New Mexico, Oklahoma” was published in the Federal Register (75 FR 8739), concerning the dependent resurvey and survey in Township 5 South, Range 13 West, of the Indian Meridian, and Township 5 South, Range 15 West, of the Indian Meridian, officially filed July 19, 2010, for Groups 80 and 82 OK.

Portions of these plats referenced in the February 25, 2010, Notice, specifically the gradient boundary, medial line, partition lines, and the extension of the rectangular survey system located south of the adjusted 1875 left (north) bank meanders of the Red River were cancelled effective November 16, 2017, and November 17, 2017. Supplemental plats were prepared and the field note records were amended to reflect these cancellations. The supplemental plats were filed November 20, 2017.

Authority: 43 U.S.C. Chapter 3.

Christopher P. McDonald,
Acting Chief Cadastral Surveyor for NM, OK, KS, and TX.

[FR Doc. 2019-16402 Filed 7-31-19; 8:45 am]

BILLING CODE 4310-FB-P